DEPARTMENT OF TRANSPORTATION

Federal Aviation Administration

14 CFR Part 95

[Docket No. 30599; Amdt. No. 473]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, April 10, 2008.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on March 11, 2008.
James J. Ballough,
Director, Flight Standards Service.

Adoption of the Amendment

Accordingly, pursuant to the authority delegated to me by the Administrator, part 95 of the Federal Aviation Regulations (14 CFR part 95) is amended as follows effective at 0901 UTC, April 10, 2008.

1. The authority citation for part 95 continues to read as follows:

Authority: 49 U.S.C. 106(g), 40103, 40106, 40113, 40114, 40120, 44502, 44514, 44719, 44721.

2. Part 95 is amended as follows:

Revisions to IFR Altitudes & Changeover Points
[Amendment 473 effective date April 10, 2008 ]
From | To | MEA
§ 95.6001 Victor Routes—U.S.
§ 95.6001 VOR Federal Airway V1 Is Amended To Read in Part
Salisbury, MD VORTAC | Waterloo, DE VOR/DME | *2000
*1500—MOCA
§ 95.6006 VOR Federal Airway V6 Is Amended To Read in Part
Selinsgrove, PA VORTAC | Snowy, PA FIX | *5000
*3500—MOCA
*4000—GNSS MEA
Snowy, PA FIX | Allentown, PA VORTAC | *4000
*3300—MOCA
§ 95.6008 VOR Federal Airway V8 Is Amended To Read in Part
Matzo, UT FIX | Bryce Canyon, UT VORTAC | 12300
§ 95.6016 VOR Federal Airway V16 Is Amended To Read in Part
Tappa, VA FIX | Colin, VA FIX | *5000
*1500—MOCA
*2000—GNSS MEA
Colin, VA FIX | Patuxent, MD VORTAC | *5000
*1400—MOCA
*2000—GNSS MEA
§ 95.6020 VOR Federal Airway V20 Is Amended To Read in Part
Tappa, VA FIX | Colin, VA FIX | *5000
*1500—MOCA
*2000—GNSS MEA
Colin, VA FIX | Nottingham, MD VORTAC | *10000
*1800—MOCA
*2000—GNSS MEA
§ 95.6025 VOR Federal Airway V25 Is Amended To Read in Part
Los Angeles, CA VORTAC | *Merma, CA FIX | 2000
*3000—MRA
*Merma, CA FIX | Exert, CA FIX | 2000
*3000—MRA
§ 95.6031 VOR Federal Airway V31 Is Amended To Read in Part
Vinny, PA FIX | *Suede, PA FIX | **12000
*4500—MRA
**5000—GNSS MEA
Suede, PA FIX | Gramo, PA FIX | **12000
**5000—GNSS MEA
Gramo, PA FIX | Harrisburg, PA VORTAC | *7000
*5000—GNSS MEA
§ 95.6033 VOR Federal Airway V33 Is Amended To Read in Part
Colin, VA FIX | Nottingham, MD VORTAC | *10000
*1800—MOCA
*2000—GNSS MEA
Vinny, PA FIX | *Suede, PA FIX | **12000
*4500—MRA
**5000—GNSS MEA
Suede, PA FIX | Gramo, PA FIX | **12000
**5000—GNSS MEA
Gramo, PA FIX | Harrisburg, PA VORTAC | *7000
*5000—GNSS MEA
§ 95.6058 VOR Federal Airway V58 Is Amended To Read in Part
*Eared, PA FIX | Philipsburg, PA VORTAC | **6000
*4000—MRA
**4100—MOCA
**5000—GNSS MEA
§ 95.6063 VOR Federal Airway V63 Is Amended To Read in Part
Wausau, WI VORTAC | Rhinelander, WI VORTAC | #*4000
*3500—MOCA
#USE AUW 005 RHI 185 UNUSABLE.
§ 95.6091 VOR Federal Airway V91 Is Amended To Read in Part
Albany, NY VORTAC | Glens Falls, NY VORTAC | *7000
*5000—GNSS MEA
Glens Falls, NY VORTAC | Enson, VT FIX | *10000
*5000—GNSS MEA
§ 95.6099 VOR Federal Airway V99 Is Amended To Read in Part
Outte, CT FIX | Sorry, CT FIX | *10000
*4000—GNSS MEA
§ 95.6106 VOR Federal Airway V106 Is Amended To Read in Part
Raymy, NH FIX | Kennebunk, ME VORTAC | *5500
*2200—MOCA
*3000—GNSS MEA
§ 95.6130 VOR Federal Airway V130 Is Amended To Read in Part
Albany, NY VORTAC | Stela, MA FIX | *6000
*3900—MOCA
*4000—GNSS MEA
Stela, MA FIX | Bradley, CT VORTAC | 3900
Bradley, CT VORTAC | Norwich, CT VOR/DME | 2600
§ 95.6146 VOR Federal Airway V146 Is Amended To Read in Part
Albany, NY VORTAC | Chester, MA VOR/DME | 4100
§ 95.6157 VOR Federal Airway V157 Is Amended To Read in Part
Tappa, VA FIX | Colin, VA FIX | *5000
*1500—MOCA
*2000—GNSS MEA
Colin, VA FIX | Patuxent, MD VORTAC | *5000
*1400—MOCA
*2000—GNSS MEA
§ 95.6165 VOR Federal Airway V165 Is Amended To Read in Part
Los Angeles, CA VORTAC | *Valey, CA FIX | 4000
*5600—MCA VALEY, CA FIX, N BND
§ 95.6210 VOR Federal Airway V210 Is Amended To Read in Part
Lancaster, PA VORTAC | Spery, PA FIX | 2800
Spery, PA FIX | Yardley, PA VOR/DME | *3000
*2200—MOCA
§ 95.6213 VOR Federal Airway V213 Is Amended To Read in Part
Tappa, VA FIX | Colin, VA FIX | *5000
*1500—MOCA
*2000—GNSS MEA
Colin, VA FIX | Patuxent, MD VORTAC | *5000
*1400—MOCA
*2000—GNSS MEA
§ 95.6489 VOR Federal Airway V489 Is Amended To Read in Part
Albany, NY VORTAC | Glens Falls, NY VORTAC | *7000
*5000—GNSS MEA
Glens Falls, NY VORTAC | *Fairb, NY FIX | 6000
*8000—MRA
*Fairb, NY FIX | Leafy, NY FIX | **8000
*8000—MRA
**6000—GNSS MEA

From | To | MEA | MAA
§ 95.7001 Jet Routes
§ 95.7029 Jet Route J29 Is Amended To Read in Part
Humble, TX VORTAC | El Dorado, AR VORTAC | 18000 | 45000
§ 95.7101 Jet Route J101 Is Amended To Read in Part
Lufkin, TX VORTAC | Little Rock, AR VORTAC | 18300 | 45000

Airway segment: From | Airway segment: To | Changeover points: Distance | Changeover points: From
§ 95.8003 VOR Federal Airway Changeover Points
Is Amended To Delete Changeover Point V59:
Beckley, WV VORTAC | Pulaski, VA VORTAC | 46 | Beckley
Is Amended To Add Changeover Point V59:
Beckley, WV VORTAC | Parkersburg, WV VORTAC | 46 | Beckley

[FR Doc. E8-5372 Filed 3-17-08; 8:45 am]

BILLING CODE 4910-13-P